DEPARTMENT OF HOMELAND SECURITY

[Docket No. DHS-2013-0016]

Agency Information Collection Activities: Office of Biometric Identity Management (OBIM) Biometric Data Collection at the Ports of Entry

AGENCY: National Protection and Programs Directorate, DHS.

ACTION: 30-Day notice and request for comments; Extension, without change, of a currently approved collection.

SUMMARY: The Department of Homeland Security (DHS), National Protection and Programs Directorate (NPPD), Office of Biometric Identity Management (OBIM), formerly the United States Visitor and Immigrant Status Indicator Technology (US-VISIT) Program, will submit the following Information Collection Request (ICR) to the Office of Management and Budget (OMB) for review and clearance in accordance with the Paperwork Reduction Act of 1995 (Pub. L. 104-13, 44 U.S.C. Chapter 35). NPPD is soliciting comments concerning this biometric data collection at the ports of entry. DHS previously published this ICR in the Federal Register on April 15, 2013, for a 60-day public comment period. DHS received three comments in response to that notice. The purpose of this notice is to allow an additional 30 days for public comments.

DATES: Comments are encouraged and will be accepted until August 22, 2013. This process is conducted in accordance with 5 CFR 1320.10.

ADDRESSES: Interested persons are invited to submit written comments on the proposed information collection to the Office of Information and Regulatory Affairs, OMB. Comments should be addressed to OMB Desk Officer, Department of Homeland Security, Office of Civil Rights and Civil Liberties. Comments must be identified by DHS-2010-0016 and may be submitted by one of the following methods:

• Federal eRulemaking Portal: http://www.regulations.gov.

• Email: oira_submission@omb.eop.gov. Include the docket number in the subject line of the message.

• Fax: (202) 395-5806

Instructions: All submissions received must include the words “Department of Homeland Security” and the docket number for this action. Comments received will be posted without alteration at http://www.regulations.gov, including any personal information provided.

OMB is particularly interested in comments that:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

FOR FURTHER INFORMATION CONTACT: Steven P. Yonkers, DHS/NPPD/OBIM, Steve.Yonkers@dhs.gov.

SUPPLEMENTARY INFORMATION: DHS established OBIM, formerly the US-VISIT Program, to meet specific legislative mandates intended to strengthen border security, address critical needs in terms of providing decision-makers with critical information, and demonstrate progress toward performance goals for national security, expediting of trade and travel, and supporting immigration system improvements. DHS collects and disseminates biometric information (digital fingerprint images and facial photos) from individuals during their entry into the United States. This information is disseminated to specific DHS Components; other Federal agencies; Federal, state, and local law enforcement agencies; and the Intelligence Community to assist in the decisions they make related to, and in support of, the homeland security mission. Beginning on December 10, 2007, US-VISIT expanded the collection of fingerprints from two prints to ten. The new collection time of 35 seconds, an increase from the previous 15 seconds, is a result of this change, and includes officer instructions. Additionally, DHS published a final rule, entitled “United States Visitor and Immigrant Status Indicator Technology Program (US-VISIT); Enrollment of Additional Aliens in US-VISIT; Authority To Collect Biometric Data From Additional Travelers and Expansion to the 50 Most Highly Trafficked Land Border Ports of Entry,” which became effective on January 18, 2009, and expanded the population of aliens subject to the requirement of having to provide biometrics in connection with their admission to the United States. See 73 FR 77473 (Dec. 19, 2008).

Analysis

Agency: Department of Homeland Security, National Protection and Programs Directorate, Office of Biometric Identity Management.

Title: Office of Biometric Identity Management (OBIM) Biometric Data Collection at the Ports of Entry.

OMB Number: 1600-0006.

Frequency: One-time collection.

Affected Public: Foreign visitors and immigrants into the United States.

Number of Respondents: 156,732,422.

Estimated Time Per Respondent: 35 seconds.

Total Burden Hours: 1,520,304 annual burden hours.

Total Burden Cost (capital/startup): $0.

Total Recordkeeping Burden: $63,853,000.

Total Burden Cost (operating/maintaining): $63,853,000.

Dated: June 17, 2013.
Scott Libby,
Deputy Chief Information Officer, National Protection and Programs Directorate, Department of Homeland Security.

[FR Doc. 2013-17579 Filed 7-22-13; 8:45 am]

BILLING CODE 9110-9P-P